DEPARTMENT OF TRANSPORTATION

Federal Aviation Administration

14 CFR Part 39

[Docket No. FAA-2009-1067; Directorate Identifier 2009-NM-071-AD; Amendment 39-16516; AD 2010-23-26]

RIN 2120-AA64

Airworthiness Directives; Airbus Model A300 B2-1C, B2K-3C, B2-203, B4-2C, B4-103, and B4-203 Airplanes; and Model A300 B4-601, B4-603, B4-620, B4-622, B4-605R, B4-622R, and F4-605R Airplanes

AGENCY: Federal Aviation Administration, Department of Transportation.

ACTION: Final rule.

SUMMARY: We are superseding an existing airworthiness directive (AD) for the products listed above. This AD results from mandatory continuing airworthiness information (MCAI) originated by an aviation authority of another country to identify and correct an unsafe condition on an aviation product. The MCAI describes the unsafe condition as:

Following the occurrence of cracks on the MLG [main landing gear] rib 5 RH [right-hand] and LH [left-hand] attachment fitting lower flanges, DGAC [Direction Générale de l'Aviation Civile] France AD 2003-318(B) [parallel to part of FAA AD 2006-12-13] was issued to require repetitive inspections and, as terminating action * * *[.]

Subsequently, new cases of cracks were discovered during scheduled maintenance checks by operators of A300B4 and A300-600 type aeroplanes on which the terminating action * * * [was] embodied. This condition, if not corrected, could affect the structural integrity of those aeroplanes.

* * * * *

We are issuing this AD to require actions to correct the unsafe condition on these products.

DATES: This AD becomes effective January 5, 2011.

The Director of the Federal Register approved the incorporation by reference of certain publications listed in this AD as of January 5, 2011.

On July 18, 2006 (71 FR 33994, June 13, 2006), the Director of the Federal Register approved the incorporation by reference of certain other publications listed in this AD.

On April 12, 2000 (65 FR 12077, March 8, 2000), the Director of the Federal Register approved the incorporation by reference of certain other publications listed in this AD.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Dan Rodina, Aerospace Engineer, International Branch, ANM-116, Transport Airplane Directorate, FAA, 1601 Lind Avenue, SW., Renton, Washington 98057-3356; telephone (425) 227-2125; fax (425) 227-1149.

SUPPLEMENTARY INFORMATION:

Discussion

We issued a notice of proposed rulemaking (NPRM) to amend 14 CFR part 39 to include an AD that would apply to the specified products. That NPRM was published in the Federal Register on November 18, 2009 (74 FR 59483), and proposed to supersede AD 2006-12-13, Amendment 39-14639 (71 FR 33994, June 13, 2006). That NPRM proposed to correct an unsafe condition for the specified products. The MCAI states:

Following the occurrence of cracks on the MLG [main landing gear] rib 5 RH [right-hand] and LH [left-hand] attachment fitting lower flanges, DGAC [Direction Générale de l'Aviation Civile] France AD 2003-318(B) [parallel to part of FAA AD 2006-12-13] was issued to require repetitive inspections and, as terminating action, the embodiment of Airbus Service Bulletins (SB) A300-57-0235 and A300-57-6088 * * *.

Subsequently, new cases of cracks were discovered during scheduled maintenance checks by operators of A300B4 and A300-600 type aeroplanes on which the terminating action SB's were embodied. This condition, if not corrected, could affect the structural integrity of those aeroplanes.

To address and correct this condition, Airbus developed an inspection programme for aeroplanes modified in accordance with SB A300-57-0235 or A300-57-6088. This inspection programme was required to be implemented by DGAC France AD F-2005-113, original issue and later revision 1 [parallel to part of FAA AD 2006-12-13].

A new EASA [European Aviation Safety Agency] AD 2008-0111, superseding DGAC France AD F-2005-113R1, was issued to reduce the applicability. For aeroplanes already compliant with DGAC France AD F-2005-113R1, no further action was required.

Since EASA AD 2008-0111 issuance, Airbus reviewed the inspection programmes of SB A300-57A0246 and SB A300-57A6101 to introduce repetitive inspections including a new inspection technique for holes 47 and 54 and to reduce inspections threshold and intervals from 700 Flight Cycles (FC) to 400 FC until a revised terminating action is made available.

For the reasons stated above, AD 2009-0081 superseded EASA AD 2008-0111 and required operators to comply with the new inspection programme introduced in Revisions 3 of Airbus SB A300-57A0246 and Airbus SB A300-57A6101.

This AD is revised to introduce an optional terminating action which consists of spot-facing the sensitive holes of the MLG Rib 5 (LH and RH) bottom flanges.

Required actions include contacting Airbus for repair instructions, if necessary, and doing the repair. You may obtain further information by examining the MCAI in the AD docket.

Comments

We gave the public the opportunity to participate in developing this AD. We considered the comment received.

Request To Revise Proposed Costs of Compliance

FedEx Express commented that the NPRM would affect 57 of its airplanes. FedEx Express states that the inspections do not require any special inspection techniques, training, or tooling, and that it has scheduled the proposed inspections although it has not yet inspected any airplanes. FedEx Express also states that the inspection interval is sufficient, but if cracks are found, significant downtime will be required.

From these comments, we infer that FedEx Express is requesting that we revise the Costs of Compliance section of the NPRM. We do not agree with the request. We recognize that, in accomplishing the requirements of any AD, operators might incur “incidental” costs in addition to the “direct” costs that are reflected in the cost analysis presented in the AD preamble. However, the cost analysis in AD rulemaking actions typically does not include incidental costs. We have, however, reviewed the figures that we have used over the past several years to calculate costs to operators. To account for various inflationary costs in the airline industry, we find it necessary to increase the labor rate used in these calculations from $80 per work hour to $85 per work hour. The cost impact information, below, reflects this increase in the specified hourly rate. We have also corrected the calculations used in determining the cost to operators.

Explanation of Change to the NPRM

Paragraph (p)(5) of the NPRM specifies contacting Airbus for a repair solution and doing the repair. The European Aviation Safety Agency (EASA) has assumed responsibility for the airplane models subject to this AD. Therefore, we have revised paragraph (p)(5) of this AD to add a provision for making repairs using a method approved by either the Manager of the International Branch, ANM-116, Transport Airplane Directorate, FAA or the EASA (or its delegated agent).

Explanation of Change to AD

We have revised paragraphs (j) and (k) of this AD; and Tables 1, 2, 3, 4, and 5 of this AD to remove Airbus Model A300 B2-1A, F4-622R, and C4-605R Variant F airplanes. We have determined that these airplanes were inadvertently carried over from the paragraph callouts of the previous AD into the NPRM. These airplanes are not subject to the identified unsafe condition and therefore are not affected by this AD.

Conclusion

We reviewed the available data, including the comment received, and determined that air safety and the public interest require adopting the AD with the changes described previously. We also determined that these changes will not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Costs of Compliance

We estimate that this AD will affect about 155 products of U.S. registry.

The actions that are required by AD 2006-12-13 and retained in this AD take about 76 work-hours per product, at an average labor rate of $85 per work hour. Required parts cost about $10,270 per product. Based on these figures, the estimated cost of the currently required actions is $16,730 per product.

We estimate that it will take about 3 work-hours per product to comply with the new basic requirements of this AD. The average labor rate is $85 per work-hour. Based on these figures, we estimate the cost of this AD to the U.S. operators to be $39,525 or $255 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-14639 (71 FR 33994, June 13, 2006) and adding the following new AD:

2010-23-26 Airbus: Amendment 39-16516. Docket No. FAA-2009-1067; Directorate Identifier 2009-NM-071-AD.

Effective Date

(a) This airworthiness directive (AD) becomes effective January 5, 2011.

Affected ADs

(b) This AD supersedes AD 2006-12-13, Amendment 39-14639.

Applicability

(c) This AD applies to the airplanes, certificated in any category, identified in paragraphs (c)(1) and (c)(2) of this AD; except airplanes on which Airbus Modification 11912 or 11932 has been installed.

(1) Airbus Model A300 B2-1C, B2K-3C, B2-203, B4-2C, B4-103, and B4-203 airplanes.

(2) Airbus Model A300 B4-601, B4-603, B4-620, B4-622, B4-605R, B4-622R, and F4-605R airplanes.

Subject

(d) Air Transport Association (ATA) of America Code 57: Wings.

Reason

(e) The mandatory continuing airworthiness information (MCAI) states:

Following the occurrence of cracks on the MLG [main landing gear] rib 5 RH [right-hand] and LH [left-hand] attachment fitting lower flanges, DGAC [Direction Générale de l'Aviation Civile] France AD 2003-318(B) [parallel to part of FAA AD 2006-12-13] was issued to require repetitive inspections and, as terminating action, the embodiment of Airbus Service Bulletins (SB) A300-57-0235 and A300-57-6088 * * *.

Subsequently, new cases of cracks were discovered during scheduled maintenance checks by operators of A300B4 and A300-600 type aeroplanes on which the terminating action SB's were embodied. This condition, if not corrected, could affect the structural integrity of those aeroplanes.

To address and correct this condition, Airbus developed an inspection programme for aeroplanes modified in accordance with SB A300-57-0235 or A300-57-6088. This inspection programme was required to be implemented by DGAC France AD F-2005-113, original issue and later revision 1 [parallel to part of FAA AD 2006-12-13].

A new EASA [European Aviation Safety Agency] AD 2008-0111, superseding DGAC France AD F-2005-113R1, was issued to reduce the applicability. For aeroplanes already compliant with DGAC France AD F-2005-113R1, no further action was required.

Since EASA AD 2008-0111 issuance, Airbus reviewed the inspection programmes of SB A300-57A0246 and SB A300-57A6101 to introduce repetitive inspections including a new inspection technique for holes 47 and 54 and to reduce inspections threshold and intervals from 700 Flight Cycles (FC) to 400 FC until a revised terminating action is made available.

For the reasons stated above, AD 2009-0081 superseded EASA AD 2008-0111 and required operators to comply with the new inspection programme introduced in Revisions 3 of Airbus SB A300-57A0246 and Airbus SB A300-57A6101.

This AD is revised to introduce an optional terminating action which consists of spot-facing the sensitive holes of the MLG Rib 5 (LH and RH) bottom flanges.

Required actions include contacting Airbus for repair instructions, if necessary, and doing the repair.

Restatement of Requirements of AD 2000-05-07

(f) You are responsible for having the actions required by this AD performed within the compliance times specified, unless the actions have already been done.

Repetitive Inspections

(g) Perform a detailed inspection and a high-frequency eddy current (HFEC) inspection to detect cracks in Gear Rib 5 of the main landing gear (MLG) attachment fittings at the lower flange, in accordance with the Accomplishment Instructions of any applicable service bulletin listed in Table 1 and Table 2 of this AD, at the time specified in paragraph (g)(1) or (g)(2) of this AD. After April 12, 2000 (the effective date of AD 2000-05-07, Amendment 39-11616), only the service bulletins listed in Table 2 of this AD may be used. Repeat the inspections thereafter at intervals not to exceed 1,500 flight cycles, until the actions specified in paragraph (i), (j), or (l) of this AD are accomplished.

Table 1—Revision 01 of Service Bulletins
Model— | Airbus Service Bulletin— | Revision level— | Dated—
A300 B4-601, B4-603, B4-620, B4-622, B4-605R, B4-622R and F4-605R airplanes | A300-57-6087 | 01 | March 11, 1998.
A300 B2-1C, B2K-3C, B2-203, B4-2C, B4-103, and B4-203 airplanes | A300-57-0234 | 01 | March 11, 1998.

Table 2—Other Revisions of Service Bulletins
Model— | Airbus Service Bulletin— | Revision level— | Dated—
A300 B4-601, B4-603, B4-620, B4-622, B4-605R, B4-622R, and F4-605R airplanes | A300-57A6087 | 02, including Appendix 01 | June 24, 1999.
|  | 03, including Appendix 01 | May 19, 2000.
|  | 04, including Appendix 01 | February 19, 2002.
|  | 05, including Appendix 01 | March 10, 2008.
A300 B2-1C, B2K-3C, B2-203, B4-2C, B4-103, and B4-203 airplanes | A300-57A0234 | 02 | June 24, 1999.
|  | 03, including Appendix 01 | September 2, 1999.
|  | 04, including Appendix 01 | May 19, 2000.
|  | 05, including Appendix 01 | February 19, 2002.

(1) For airplanes that have accumulated 20,000 or more total flight cycles as of March 9, 1998 (the effective date of AD 98-03-06, Amendment 39-10298): Inspect within 500 flight cycles after March 9, 1998.

(2) For airplanes that have accumulated less than 20,000 total flight cycles as of March 9, 1998: Inspect prior to the accumulation of 18,000 total flight cycles, or within 1,500 flight cycles after March 9, 1998, whichever occurs later.

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Note 2: Accomplishment of the initial detailed and HFEC inspections prior to April 12, 2000, in accordance with Airbus Service Bulletin A300-57A0234 or A300-57A6087, both dated August 5, 1997, as applicable, is considered acceptable for compliance with the initial inspections required by paragraph (g) of this AD.

Repair for Any Crack Found During Inspections Required by Paragraph (g) of This AD

(h) If any crack is detected during any inspection required by paragraph (g) of this AD, prior to further flight, accomplish the requirements of paragraph (h)(1) or (h)(2) of this AD, as applicable.

(1) If a crack is detected at one hole only, and the crack does not extend out of the spotface of the hole, repair in accordance with the Accomplishment Instructions of the applicable service bulletin in Table 2 of this AD.

(2) If a crack is detected at more than one hole, or if any crack at any hole extends out of the spotface of the hole, repair in accordance with a method approved by the Manager, International Branch, ANM-116, Transport Airplane Directorate, FAA, or the European Aviation Safety Agency (EASA) (or its delegated agent).

Terminating Modification for Repetitive Inspections Required by Paragraphs (g) and (j) of This AD

(i) Except as required by paragraph (l) of this AD, prior to the accumulation of 21,000 total flight cycles, or within 2 years after October 20, 1999 (the effective date of AD 99-19-26, amendment 39-11313), whichever occurs later: Modify Gear Rib 5 of the MLG attachment fittings at the lower flange in accordance with the Accomplishment Instructions of the applicable service bulletin in Table 3 of this AD. After July 18, 2006 (the effective date of AD 2006-12-13), only Revision 04 of Airbus Service Bulletin A300-57-6088, and Revisions 04 and 05 of Airbus Service Bulletin A300-57-0235 may be used. Accomplishment of this modification constitutes terminating action for the repetitive inspection requirements of paragraphs (g) and (j) of this AD.

Table 3—Service Bulletins for Terminating Modification
Model— | Airbus Service Bulletin— | Revision level— | Dated—
A300 B4-601, B4-603, B4-620, B4-622, B4-605R, B4-622R, and F4-605R airplanes | A300-57-6088 | 01, including Appendix 01 | February 1, 1999.
|  | 02 | September 5, 2002.
|  | 04 | December 3, 2003.
A300 B2-1C, B2K-3C, B2-203, B4-2C, B4-103, and B4-203 airplanes | A300-57-0235 | 01, including Appendix 01 | February 1, 1999.
|  | 03 | September 5, 2002.
|  | 04 | March 13, 2003.
|  | 05 | December 3, 2003.

Note 3: Accomplishment of the modification required by paragraph (i) of this AD prior to April 12, 2000, in accordance with Airbus Service Bulletin A300-57-6088 or A300-57-0235, both dated August 5, 1998; as applicable; is acceptable for compliance with the requirements of that paragraph.

Restatement of Requirements of AD 2006-12-13

Additional Repetitive Inspections

(j) For airplanes on which the modification specified in paragraph (i) or (l) of this AD has not been done before July 18, 2006 (the effective date of AD 2006-12-13, Amendment 39-14639), perform a detailed and an HFEC inspection to detect cracks of the lower flange of Gear Rib 5 of the MLG at holes 43, 47, 48, 49, 50, 52, and 54, in accordance with the applicable service bulletin listed in Table 4 of this AD. Perform the inspections at the applicable time specified in paragraph (j)(1), (j)(2), (j)(3), or (j)(4) of this AD. Repeat the inspections thereafter at intervals not to exceed 700 flight cycles until the terminating modification required by paragraph (l) of this AD is accomplished. Accomplishment of the inspections per paragraph (j) of this AD terminates the inspection requirements of paragraph (g) of this AD.

Table 4—Service Bulletins for Repetitive Inspections
Model— | Airbus Service Bulletin— | Revision level— | Dated—
A300 B4-601, B4-603, B4-620, B4-622, B4-605R, B4-622R, and F4-605R airplanes | A300-57A6087 | 04, including Appendix 01 | February 19, 2002.
|  | 05, including Appendix 01 | March 10, 2008.
A300 B2-1C, B2K-3C, B2-203, B4-2C, B4-103, and B4-203 airplanes | A300-57A0234 | 05, including Appendix 01 | February 19, 2002.

(1) For Model A300 B2-1C, B2K-3C, B2-203, B4-2C, B4-103, and B4-203 airplanes; and Model A300 B4-601, B4-603, B4-620, B4-622, B4-605R, B4-622R, and F4-605R airplanes that have accumulated 18,000 or more total flight cycles as of July 18, 2006: Within 700 flight cycles after July 18, 2006.

(2) For Model A300 B2-1C, B2K-3C, and B2-203 airplanes that have accumulated less than 18,000 total flight cycles as of July 18, 2006: Prior to the accumulation of 18,000 total flight cycles, or within 700 flight cycles after July 18, 2006, whichever occurs later.

(3) For Model A300 B4-2C, B4-103, and B4-203 airplanes that have accumulated less than 18,000 total flight cycles as of July 18, 2006: Prior to the accumulation of 14,500 total flight cycles, or within 700 flight cycles after July 18, 2006, whichever occurs later.

(4) For Model A300 B4-601, B4-603, B4-620, B4-622, B4-605R, B4-622R, and F4-605R airplanes that have accumulated less than 18,000 total flight cycles as of July 18, 2006: Prior to the accumulation of 11,600 total flight cycles, or within 700 flight cycles after July 18, 2006, whichever occurs later.

Crack Repair

(k) If any crack is detected during any inspection required by paragraph (j) of this AD, prior to further flight, accomplish the requirements of paragraphs (k)(1) and (k)(2) of this AD, as applicable.

(1) If a crack is detected at only one hole, and the crack does not extend out of the spotface of the hole, repair in accordance with Airbus Service Bulletin A300-57A0234, Revision 05, including Appendix 01, dated February 19, 2002 (for Model A300 B2-1C, B2K-3C, B2-203, B4-2C, B4-103, and B4-203 airplanes); or A300-57A6087, Revision 04, including Appendix 01, dated February 19, 2002; or A300-57A6087, Revision 05, dated March 10, 2008 (for Model A300 B4-601, B4-603, B4-620, B4-622, B4-605R, B4-622R, and F4-605R airplanes); as applicable.

(2) If a crack is detected at more than one hole, or if any crack at any hole extends out of the spotface of the hole, repair in accordance with a method approved by the Manager, International Branch, ANM-116, or the EASA (or its delegated agent).

Terminating Modification for Repetitive Inspections Required by Paragraphs (g) and (j) of This AD for Certain Airplanes

(l) For airplanes on which the terminating modification in paragraph (i) of this AD has not been accomplished before July 18, 2006: At the earlier of the times specified in paragraphs (l)(1) and (l)(2) of this AD, modify Gear Rib 5 of the MLG attachment fittings at the lower flange. Except as provided by paragraph (m) of this AD, do the modification in accordance with the applicable service bulletin in Table 5 of this AD. This action terminates the repetitive inspections requirements of paragraphs (g) and (j) of this AD.

(1) Prior to the accumulation of 21,000 total flight cycles, or within 2 years after October 20, 1999, whichever is later.

(2) Within 16 months after July 18, 2006.

Table 5—Service Bulletins for Terminating Modification
Model— | Airbus Service Bulletin— | Revision level— | Dated—
A300 B4-601, B4-603, B4-620, B4-622, B4-605R, B4-622R and F4-605R airplanes | A300-57-6088 | 04 | December 3, 2003.
A300 B2-1C, B2K-3C, B2-203, B4-2C, B4-103, and B4-203 airplanes | A300-57-0235 | 04 | March 13, 2003.
|  | 05 | December 3, 2003.

(m) Where the applicable service bulletin specified in paragraph (l) of this AD specifies to contact Airbus for modification instructions; or if there is a previously installed repair at any of the affected fastener holes; or if a crack is found when accomplishing the modification: Prior to further flight, modify in accordance with a method approved by the Manager, International Branch, ANM-116, or the EASA (or its delegated agent).

Actions Accomplished per Previous Issues of Service Bulletins

(n) Actions accomplished before July 18, 2006, in accordance with the service bulletins listed in Table 6 of this AD, are considered acceptable for compliance with the corresponding action specified in paragraphs (g) through (m) of this AD.

Table 6—Previous Issues of Service Bulletins
Airbus Service Bulletin— | Revision level— | Dated—
A300-57-0235 | 02, including Appendix 01 | September 27, 1999.
| 03 | September 5, 2002.
A300-57-6088 | 02 | September 5, 2000.
| 03 | March 13, 2003.

No Reporting

(o) Although the service bulletins identified in Tables 1, 2, 3, 4, 5, and 6 of this AD specify to submit certain information to the manufacturer, this AD does not include such a requirement.

New Requirements of This AD:

Actions and Compliance

(p) Unless already done, do the following actions.

(1) At the applicable time specified in paragraph (p)(2) of this AD, perform a detailed inspection for cracking at the locations specified in paragraphs (p)(1)(i), (p)(1)(ii), and (p)(1)(iii) of this AD, in accordance with the Accomplishment Instructions of Airbus Mandatory Service Bulletin A300-57A0246, Revision 03, dated March 11, 2009; or Revision 04, dated September 9, 2009; or Airbus Mandatory Service Bulletin A300-57A6101, Revision 03, dated March 11, 2009; or Revision 04, dated September 9, 2009; as applicable.

(i) The bottom flange and vertical web in the area between the wing rear spar/gear rib 5 attachment and the forward reaction-rod pick-up lug.

(ii) On the inboard side, around the fastener holes at locations 43, 47 to 50, 52, and 54.

(iii) On the outboard side, the lower flange, the vertical web and around the fastener holes at locations 43, 47 to 50, 52 and 54.

(2) Do the inspection required by paragraph (p)(1) of this AD at the later of the times in paragraphs (p)(2)(i) and (p)(2)(ii) of this AD.

(i) Within 400 flight cycles after the accomplishment of the actions required by paragraph (i) or (l) of this AD, as applicable.

(ii) Within 400 flight cycles or 4 months after the effective date of this AD, whichever occurs first.

(3) If no cracking is detected during the inspection required by paragraph (p)(1) of this AD, before further flight, perform a fluorescent penetrant inspection (FPI) at holes location 47 and 54, in the right-hand and left-hand MLG rib 5 attachment fitting lower flange, in accordance with the Accomplishment Instructions of Airbus Mandatory Service Bulletin A300-57A0246, Revision 03, dated March 11, 2009; or Revision 04, dated September 9, 2009; or Airbus Mandatory Service Bulletin A300-57A6101, Revision 03, dated March 11, 2009; or Revision 04, dated September 9, 2009; as applicable.

(4) Thereafter, at intervals not to exceed 400 flight cycles, repeat the detailed and FPI inspections, in accordance with the Accomplishment Instructions of Airbus Mandatory Service Bulletin A300-57A0246, Revision 03, dated March 11, 2009; or Revision 04, dated September 9, 2009; or Airbus Mandatory Service Bulletin A300-57A6101, Revision 03, dated March 11, 2009; or Revision 04, dated September 9, 2009; as applicable.

(5) If any crack is detected during any of the inspections required by paragraphs (p)(1), (p)(3), and (p)(4) of this AD, and Airbus Mandatory Service Bulletin A300-57A0246, Revision 03, dated March 11, 2009; or Revision 04, dated September 9, 2009; or Airbus Mandatory Service Bulletin A300-57A6101, Revision 03, dated March 11, 2009; or Revision 04, dated September 9, 2009; recommends contacting Airbus for appropriate action: Before further flight, contact Airbus for a repair solution, and do the repair; or repair the cracking using a method approved by the Manager, International Branch, ANM-116, Transport Airplane Directorate, FAA, or EASA or its delegated agent.

(q) Spot-facing the sensitive holes on the bottom flange MLG ribs, in accordance with the Accomplishment Instructions of Airbus Mandatory Service Bulletin A300-57-0254, dated June 4, 2010, or Airbus Mandatory Service Bulletin A300-57-6110, dated June 7, 2010; as applicable; terminates the repetitive inspection requirements of paragraph (p)(4) of this AD.

FAA AD Differences

Note 4: This AD differs from the MCAI and/or service information as follows: No differences.

Other FAA AD Provisions

(r) The following provisions also apply to this AD:

(1) Alternative Methods of Compliance (AMOCs): The Manager, International Branch, ANM-116, FAA, has the authority to approve AMOCs for this AD, if requested using the procedures found in 14 CFR 39.19. Send information to ATTN: Dan Rodina, Aerospace Engineer, International Branch, ANM-116, Transport Airplane Directorate, FAA, 1601 Lind Avenue, SW., Renton, Washington 98057-3356; telephone (425) 227-2125; fax (425) 227-1149. Before using any approved AMOC on any airplane to which the AMOC applies, notify your principal maintenance inspector (PMI) or principal avionics inspector (PAI), as appropriate, or lacking a principal inspector, your local Flight Standards District Office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

Related Information

(s) Refer to MCAI EASA Airworthiness Directive 2009-0081R1, dated July 30, 2010, and the service information specified in Table 7 of this AD, for related information.

Table 7—Related Service Information
Airbus— | Revision— | Dated—
Mandatory Service Bulletin A300-57A0246 | 03, including Appendices 1 and 2 | March 11, 2009.
| 04, including Appendices 1 and 2 | September 9, 2009.
Mandatory Service Bulletin A300-57-0254 | 0, including Appendix 1 | June 4, 2010.
Mandatory Service Bulletin A300-57A6101 | 03, including Appendixes 1 and 2 | March 11, 2009.
| 04, including Appendices 1 and 2 | September 9, 2009.
Mandatory Service Bulletin A300-57-6110 | 0, including Appendix 1 | June 7, 2010.
Service Bulletin A300-57A0234 | 02 | June 24, 1999.
| 03, including Appendix 01 | September 2, 1999.
| 04, including Appendix 01 | May 19, 2000.
| 05, including Appendix 01 | February 19, 2002.
Service Bulletin A300-57A6087 | 02, including Appendix 01 | June 24, 1999.
| 03, including Appendix 01 | May 19, 2000.
| 04, including Appendix 01 | February 19, 2002.
| 05, including Appendix 01 | March 10, 2008.
Service Bulletin A300-57-0235 | 04 | March 13, 2003.
| 05 | December 3, 2003.
Service Bulletin A300-57-6088 | 04 | December 3, 2003.

Material Incorporated by Reference

(t) You must use the service information specified in Table 8 of this AD to do the actions required by this AD, as applicable, unless the AD specifies otherwise.

Table 8—All Material Incorporated by Reference
Airbus— | Revision— | Dated—
Mandatory Service Bulletin A300-57A0246 | 03, including Appendices 1 and 2 | March 11, 2009.
| 04, including Appendices 1 and 2 | September 9, 2009.
Mandatory Service Bulletin A300-57-0254 | 0, including Appendix 1 | June 4, 2010.
Mandatory Service Bulletin A300-57A6101 | 03, including Appendices 1 and 2 | March 11, 2009.
| 04, including Appendices 1 and 2 | September 9, 2009.
Mandatory Service Bulletin A300-57-6110 | 0, including Appendix 1 | June 7, 2010.
Service Bulletin A300-57A0234 | 02 | June 24, 1999.
| 03, including Appendix 01 | September 2, 1999.
| 04, including Appendix 01 | May 19, 2000.
| 05, including Appendix 01 | February 19, 2002.
Service Bulletin A300-57A6087 | 02, including Appendix 01 | June 24, 1999.
| 03, including Appendix 01 | May 19, 2000.
| 04, including Appendix 01 | February 19, 2002.
| 05, including Appendix 05 | March 10, 2008.
Service Bulletin A300-57-0235 | 04 | March 13, 2003.
| 05 | December 3, 2003.
Service Bulletin A300-57-6088 | 04 | December 3, 2003.

(1) The Director of the Federal Register approved the incorporation by reference of the service information contained in Table 9 of this AD under 5 U.S.C. 552(a) and 1 CFR part 51.

Table 9—New Material Incorporated by Reference
Airbus— | Revision— | Dated—
Mandatory Service Bulletin A300-57A0246 | 03, including Appendices 1 and 2 | March 11, 2009.
| 04, including Appendices 1 and 2 | September 9, 2009.
Mandatory Service Bulletin A300-57-0254 | Original | June 4, 2010.
Mandatory Service Bulletin A300-57A6087 | 05, including Appendix 1 | March 10, 2008.
Mandatory Service Bulletin A300-57A6101 | 03, including Appendices 1 and 2 | March 11, 2009.
| 04, including Appendices 1 and 2 | September 9, 2009.
Mandatory Service Bulletin A300-57-6110 | 0, including Appendix 1 | June 7, 2010.

(2) The Director of the Federal Register previously approved the incorporation by reference of the service information specified in Table 10 of this AD on July 18, 2006 (71 FR 33994, June 13, 2006).

Table 10—Material Previously Incorporated by Reference in AD 2006-12-13
Airbus— | Revision— | Dated—
Service Bulletin A300-57A0234 | 04, including Appendix 01 | May 19, 2000.
| 05, including Appendix 01 | February 19, 2002.
Service Bulletin A300-57A6087 | 03, including Appendix 01 | May 19, 2000.
| 04, including Appendix 01 | February 19, 2002.
Service Bulletin A300-57-0235 | 04 | March 13, 2003.
| 05 | December 3, 2003.
Service Bulletin A300-57-6088 | 04 | December 3, 2003.

(3) The Director of the Federal Register previously approved the incorporation by reference of the service information specified in Table 11 of this AD on April 12, 2000 (65 FR 12077, March 8, 2000).

Table 11—Material Previously Incorporated by Reference in AD 2000-05-07
Airbus— | Revision— | Dated—
Service Bulletin A300-57A0234 | 02 | June 24, 1999.
| 03, including Appendix 01 | September 2, 1999.
Service Bulletin A300-57A6087 | 02, including Appendix 01 | June 24, 1999.

(4) For service information identified in this AD, contact Airbus SAS—EAW (Airworthiness Office), 1 Rond Point Maurice Bellonte, 31707 Blagnac Cedex, France; telephone +33 5 61 93 36 96; fax +33 5 61 93 44 51; e-mail account.airworth-eas@airbus.com; Internet http://www.airbus.com.

(5) You may review copies of the service information at the FAA, Transport Airplane Directorate, 1601 Lind Avenue, SW., Renton, Washington. For information on the availability of this material at the FAA, call 425-227-1221.

(6) You may also review copies of the service information that is incorporated by reference at the National Archives and Records Administration (NARA). For information on the availability of this material at NARA, call 202-741-6030, or go to: http://www.archives.gov/federal_register/code_of_federal_regulations/ibr_locations.html.

Issued in Renton, Washington, on November 3, 2010.
Dionne Palermo,
Acting Manager, Transport Airplane Directorate, Aircraft Certification Service.

[FR Doc. 2010-28589 Filed 11-30-10; 8:45 am]

BILLING CODE 4910-13-P